DEPARTMENT OF THE TREASURY

Submission for OMB Review; Comment Request

February 23, 2015.

The Department of the Treasury will submit the following information collection request to the Office of Management and Budget (OMB) for review and clearance in accordance with the Paperwork Reduction Act of 1995, Public Law 104-13, on or after the date of publication of this notice.

DATES: Comments should be received on or before March 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-2229.

Type of Review: Extension without change of a currently approved collection.

Title: TD 9575—Summary of Benefits and Coverage and the Uniform Glossary.

Abstract: This document contains regulations regarding disclosure of the summary of benefits and coverage and the uniform glossary for group health plans and health insurance coverage in the group and individual markets under the Patient Protection and Affordable Care Act and implements the disclosure requirements to help plans and individuals better understand their health coverage, as well as other coverage options.

Affected Public: Private Sector: Businesses or other for-profits; not-for-profit institutions.

Estimated Annual Burden Hours: 649,500.

Dawn D. Wolfgang,
Treasury PRA Clearance Officer.

[FR Doc. 2015-04021 Filed 2-25-15; 8:45 am]

BILLING CODE 4830-01-P